DEPARTMENT OF DEFENSE

Department of Navy

Notice of Availability of Government-Owned Inventions; Available for Licensing

AGENCY: Department of the Navy, DoD.

ACTION: Notice.

SUMMARY: The inventions listed below are assigned to the United States Government as represented by the Secretary of the Navy and are available for licensing by the Department of the Navy (DoN).

The following patents are available for licensing. Patent Number 8,004,216: Variable intensity LED illumination system, issued August 23, 2011//U.S. Patent Number 8,005,257: Gesture recognition apparatus and method, issued August 23, 2011//U.S. Patent Number 8,023,784: Optical subassembly package configuration, issued September 20, 2011//U.S. Patent Number 8,044,999: Image enhancer for detecting and identifying objects in turbid media, issued October 25, 2011//U.S. Patent Number 8,056,196: Quick release fitting, issued November 15, 2011//U.S. Patent Number 8,264,909: System and method for depth determination for an acoustic sour//U.S. Patent Number 8,273,698: Odorless low-VOC and HAP-free siloxane cleaner for aerospace cleaning applications, issued September 25, 2012//U.S. Patent Number 8,289,018: Gradient magnetometer atom interferometer, issued October 16, 2012//U.S. Patent Number 8,306,689: Integrated net-centric diagnostics dataflow for avionics systems, issued November 06, 2012//U.S. Patent Number 8,373,862: Extended range optical imaging system for use in turbid media, issued February 12, 2013//U.S. Patent Application Number 13/474,250, Navy Case Number PAX68: Method for measuring fatigue, filed May 17, 2012//U.S. Patent Application Number 13/231,992. Navy Case Number PAX69: Method for fabrication of an optically transparent and electrically conductive structural material, filed September 14, 2011//U.S. Patent Application Number 13/349,625, Navy Case Number PAX80: JSF Engine actuator installation/remover tool, filed January 13, 2012//U.S. Patent Application Number 13/596,153, Navy Case Number PAX85: Method for comparing head mobility, filed August 28, 2012//U.S. Patent Application Number 61/708,673, Navy Case Number PAX95: Constrained grid-based filter, filed October 02, 2012//U.S. Patent Application Number 13/744,960, Navy Case Number PAX108: Paint stripping composition, filed January 18, 2013//U.S. Patent Application Number 13/709,863, Navy Case Number PAX112: Recoilless bucking bar system, filed December 10, 2012//U.S. Patent Application Number 13/709,179, Navy Case Number PAX116: Improved Explosive Device (IED) test fixture, filed December 10, 2012.

ADDRESSES: Request for data and inventor interviews should be directed to Naval Air Warfare Center Aircraft Division, Technology Transfer Office, 22473 Millstone Road, Building 505, Patuxent River, MD 20670, 301-342-1133.

FOR FURTHER INFORMATION CONTACT: Naval Air Warfare Center Aircraft Division, Technology Transfer Office, 22473 Millstone Road, Building 505, Patuxent River, MD 20670, 301-342-1133.

SUPPLEMENTARY INFORMATION: The DoN intends to move expeditiously to license these inventions. All licensing application packages and commercialization plans must be returned to Naval Air Warfare Center Aircraft Division, Technology Transfer Office, 22473 Millstone Road, Building 505, Patuxent River, MD 20670.

The DoN, in its decisions concerning the granting of licenses, will give special consideration to existing licensee's, small business firms, and consortia involving small business firms. The DoN intends to ensure that its licensed inventions are broadly commercialized throughout the United States.

PCT application may be filed for each of the patents as noted above. The DoN intends that licensees interested in a license in territories outside of the United States will assume foreign prosecution and pay the cost of such prosecution.

Authority: 35 U.S.C. 207, 37 CFR part 404.

Dated: March 13, 2013.
D. G. Zimmerman,
Lieutenant Commander, Judge Advocate General's Corps, U.S. Navy, Alternate Federal Register Liaison Officer.

[FR Doc. 2013-06368 Filed 3-19-13; 8:45 am]

BILLING CODE 3810-FF-P